COMMODITY FUTURES TRADING COMMISSION

Corrections to the Notice of Revision of Commission Policy Regarding the Listing of New Futures and Option Contracts by Foreign Boards of Trade That Have Received Staff No-Action Relief To Provide Direct Access to Their Automated Trading Systems From Locations in the United States

AGENCY: Commodity Futures Trading Commission.

ACTION: Notice.

SUMMARY: The Commodity Futures Trading Commission is making technical corrections to Footnotes 5 and 6 which were published in the Federal Register on April 18, 2006 (71 FR 19877). The footnotes are revised as follows:

Footnote 5: The Statement of Policy did not apply to broad-based stock index futures and option contracts that are now covered by Section 2(a)(1)(C) of the Commodity Exchange Act. Foreign boards of trade were (and presently are) required to seek and receive written supplemental no-action relief from Commission staff prior to offering or selling such contracts through U.S.-located trading systems.

Footnote 6: This notice of revision will not alter a foreign board of trade's obligation to seek and receive written supplemental no-action relief from Commission staff prior to offering or selling broad-based securities index futures and option contracts through U.S.-located trading systems.

Issued in Washington, DC on April 19, 2006.
Jean A. Webb,
Secretary of the Commission.

[FR Doc. E6-6069 Filed 4-21-06; 8:45 am]

BILLING CODE 6351-01-P